DEPARTMENT OF COMMERCE

Foreign-Trade Zones Board

[Order No. 1078]

Expansion of Foreign-Trade Zone 106, Oklahoma City, OK, Area

Pursuant to its authority under the Foreign-Trade Zones Act of June 18, 1934, as amended (19 U.S.C. 81a-81u), the Foreign-Trade Zones Board (the Board) adopts the following Order:

Whereas, the Port Authority of the Greater Oklahoma City Area, grantee of Foreign-Trade Zone 106, submitted an application to the Board for authority to expand FTZ 106 to include nine additional sites (793 acres) in the Oklahoma City area, within the Oklahoma City Customs port of entry (FTZ Docket 7-99; filed 2/12/99);

Whereas, notice inviting public comment was given in the Federal Register (64 FR 9127, 2/24/99) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 106 is approved, subject to the Act and the Board's regulations, including Section 400.28, and further subject to the grantee's implementation of the site management plan presented for the record in this case.

Signed at Washington, DC, this 10th day of February 2000.
Robert S. LaRussa,
Assistant Secretary of Commerce for Import Administration, Alternate Chairman, Foreign-Trade Zones Board.
Attest:
Dennis Puccinelli,
Acting Executive Secretary.

[FR Doc. 00-3989 Filed 2-17-00; 8:45 am]

BILLING CODE 3510-DS-P